DEPARTMENT OF JUSTICE

2 CFR Chapter XXVII

5 CFR Chapter XXVIII

8 CFR Chapter V

21 CFR Chapter II

27 CFR Chapter II

28 CFR Chapters I, III, V, and VI

31 CFR Chapter IX

40 CFR Chapter IV

41 CFR Chapter 128

45 CFR Chapter V

48 CFR Chapter 28

[Docket No. OLP 164]

Enforcing the Regulatory Reform Agenda; Department of Justice Task Force on Regulatory Reform Under E.O. 13777

AGENCY: Department of Justice.

ACTION: Request for public comment.

SUMMARY: Pursuant to Executive Order 13777, the Department of Justice's Regulatory Reform Task Force is publishing this Notice to solicit public suggestions for subjects meriting the Task Force's attention.

DATES: Written comments must be postmarked and electronic comments must be submitted on or before August 14, 2017. Commenters should be aware that the electronic Federal Docket Management System (FDMS) will accept comments submitted prior to Midnight Eastern Time on the last day of the comment period.

ADDRESSES: To ensure proper handling of comments, please reference “Docket No. OLP 164” on all electronic and written correspondence. The Department encourages all comments be submitted electronically through http://www.regulations.gov using the electronic comment form provided on that site. An electronic copy of this document is also available at http://www.regulations.gov for easy reference. Paper comments that duplicate the electronic submission are not necessary as the comments submitted to http://www.regulations.gov will be posted for public review and are part of the official docket record. Should you, however, wish to submit written comments by mail, they should be addressed to Robert Hinchman, Senior Counsel, Office of Legal Policy, U.S. Department of Justice, Room 4252 RFK Building, 950 Pennsylvania Avenue NW., Washington, DC 20530.

FOR FURTHER INFORMATION CONTACT: Robert Hinchman, (202) 514-8059. This is not a toll-free number.

SUPPLEMENTARY INFORMATION:

Posting of Public Comments. Please note that all comments received are considered part of the public record and made available for public inspection online at http://www.regulations.gov. If you wish to inspect the agency's public docket file in person by appointment, please see the paragraph above entitled FOR FURTHER INFORMATION CONTACT.

Such information includes personal identifying information (such as your name, address, etc.) voluntarily submitted by the commenter. If you do not wish personally identifying information to be posted online, you must include the phrase “PERSONAL IDENTIFYING INFORMATION” in the first paragraph of your comment. You must also place all the personal identifying information you do not want posted online or made available in the public docket in the first paragraph of your comment and identify what information you want redacted. Personal identifying information identified and located as set forth above will be placed in the agency's public docket file, but not posted online.

Overview

In February 2017, the President issued Executive Order 13777, “Enforcing the Regulatory Reform Agenda,” which sets forth principles and requirements for each agency to evaluate and implement measures to lower regulatory burdens on the American people. Specifically, the Executive Order directs each agency's Regulatory Reform Task Force to identify regulatory actions that do the following:

(i) Eliminate jobs, or inhibit job creation;

(ii) are outdated, unnecessary, or ineffective;

(iii) impose costs that exceed benefits;

(iv) create a serious inconsistency or otherwise interfere with regulatory reform initiatives and policies;

(v) are inconsistent with the requirements of the Information Quality Act (section 515 of the Treasury and General Government Appropriations Act, 2001, 44 U.S.C. 3516 note), or OMB Information Quality Guidance issued pursuant to that provision, in particular those regulations that rely in whole or in part on data, information, or methods that are not publicly available or that are insufficiently transparent to meet the standard for reproducibility; or

(vi) derive from or implement Executive Orders or other Presidential directives that have been subsequently rescinded or substantially modified.

Section 3(e) of this Order directs each agency's Regulatory Reform Task Force to seek input and other assistance, as permitted by law, from entities significantly affected by existing Federal regulations (as defined in Section 4 of Executive Order 13771) including State, local, and tribal governments, small businesses, consumers, non-governmental organizations, and trade associations. Pursuant to Executive Order 13777 and as one part of a broader consultation effort, the Department of Justice's Regulatory Reform Task Force is publishing this Notice to solicit public suggestions for subjects meriting the Task Force's attention.

Request for Comments

The Task Force seeks public comment for two purposes. First, the Task Force seeks comments from the public on the various kinds of actions taken by the Department's components that the public perceives to be regulatory in nature even if they are issued in a form other than rules promulgated upon notice and comment. For purposes of this inquiry, the public may perceive an action to be regulatory in nature if it imposes binding requirements on any person or entity outside the federal government or if it states criteria that a Department component will use to assess compliance with such a binding requirement.

Second, the Task Force seeks suggestions from the public for specific regulatory actions previously taken by the Department that should be repealed, replaced, or modified, consistent with applicable law. In particular, the Task Force welcomes specific comments that identify regulatory actions that meet the criteria as proscribed in Executive Order 13777.

The Department's Regulatory Reform Task Force will consider public comments as it conducts its own evaluation of the Department's regulations in order to identify candidate regulations for repeal, replacement, or modification.

The Department notes that this Request for Comment is issued solely for information and planning purposes. The Department will give careful consideration to the comments, and may use them as appropriate during its review, but we do not anticipate providing a point-by-point response to each comment submitted. While responses to this Request for Comments do not bind the Department to any further actions related to the response, all submissions will be made publicly available on http://www.regulations.gov.

Dated: June 21, 2017.
Rachel L. Brand,
Associate Attorney General, Chair, Regulatory Reform Task Force.

[FR Doc. 2017-13551 Filed 6-27-17; 8:45 am]

BILLING CODE 4410-BB-P